DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for domestic and foreign licensing by the Department of the Navy.

The following patents are available for licensing: U.S. Patent No. 8,345,511: BLAZED ARRAY FOR BROADBAND TRANSMITTION/RECEPTION//U.S. Patent No. 8,355,295: UNDERWATER MOBILE SENSING/COMMUNICATIONS NODE AND NETWORK OF SUCH NODES//U.S. Patent No. 8,374,054: APPARATUS AND METHOD FOR GRAZING ANGLE INDEPENDENT SIGNAL DETECTION//U.S. Patent No. 8,378,671: DEPLOYABLE MAGNETOMETER//U.S. Patent No. 8,379,087: ATTITUDE ESTIMATION USING GROUND IMAGERY//U.S. Patent No. 8,379,484: APPARATUS AND METHOD FOR COMPENSATING IMAGES FOR DIFFERENCES IN ASPECT//U.S. Patent No. 8,405,574: FACEMASK DISPLAY//U.S. Patent No. 8,453,802: CAM ACTUATED BRAKE MECHANISM FOR ADJUSTABLE BEAM TROLLEY//U.S. Patent No. 8,454,400: OUTBOARD MOTOR COMPRESSION TRANSOM ATTACHMENT ASSEMBLY//U.S. Patent No. 8,456,954: HOLOGRAPHIC NAVIGATION//U.S. Patent No. 8,459,279: SPRAY NOZZLE TIP ADAPTER AND METHOD OF CLEANING PAINT SPRAY NOZZLE//U.S. Patent No. 8,452,405: HEALTH MONITORING SYSTEM FOR PERSONNEL ON A HIGH SPEED BOAT//U.S. Patent No. 8,534,305: REVERSIBLE HEATING/COOLING STRUCTURE USABLE AS A POP-UP SHELTER.

ADDRESSES: Requests for copies of the patents cited should be directed to Office of Counsel, Naval Surface Warfare Center Panama City Division, 110 Vernon Ave., Panama City, FL 32407-7001.

FOR FURTHER INFORMATION CONTACT: Ms. Brenda Squires, Patent Administration, Naval Surface Warfare Center Panama City Division, 110 Vernon Ave., Panama City, FL 32407-7001, telephone 850-234-4646.

Authority: 35 U.S.C. 207, 37 CFR part 404.

Dated: August 5, 2014.
P. A. Richelmi,
Lieutenant, Office of the Judge Advocate General, U.S. Navy, Alternate Federal Register Liaison Officer.

[FR Doc. 2014-19233 Filed 8-13-14; 8:45 am]

BILLING CODE 3810-FF-P